INTERNATIONAL TRADE COMMISSION

[USITC SE-11-023]

Government in the Sunshine Act Meeting Notice

AGENCY HOLDING THE MEETING: United States International Trade Commission.

TIME AND DATE: August 30, 2011 at 11 a.m.

PLACE: Room 101, 500 E Street, SW., Washington, DC 20436, Telephone: (202) 205-2000.

STATUS: Open to the public.

MATTERS TO BE CONSIDERED: 1. Agendas for future meetings: None.

2. Minutes.

3. Ratification List.

4. Vote in Inv. Nos. 731-TA-825 and 826 (Second Review) (Polyester Staple Fiber from Korea and Taiwan). The Commission is currently scheduled to transmit its determinations and Commissioners' opinions to the Secretary of Commerce on or before September 13, 2011.

5. Outstanding action jackets: none.

In accordance with Commission policy, subject matter listed above, not disposed of at the scheduled meeting, may be carried over to the agenda of the following meeting.

By order of the Commission.
Issued: August 17, 2011.
William R. Bishop,
Hearings and Meetings Coordinator.

[FR Doc. 2011-21412 Filed 8-17-11; 4:15 pm]

BILLING CODE 7020-02-P